ENVIRONMENTAL PROTECTION AGENCY

[ER-FRL-9003-3]

Environmental Impacts Statements; Notice of Availability

Responsible Agency: Office of Federal Activities, General Information (202) 564-7146 or http://www.epa.gov/compliance/nepa/.

Weekly receipt of Environmental Impact Statements

Filed 05/21/2012 Through 05/25/2012

Pursuant to 40 CFR 1506.9.

Notice

Section 309(a) of the Clean Air Act requires that EPA make public its comments on EISs issued by other Federal agencies. EPA's comment letters on EISs are available at: http://www.epa.gov/compliance/nepa/eisdata.html.

Supplementary Information: EPA is seeking agencies to participate in its e-NEPA electronic EIS submission pilot. Participating agencies can fulfill all requirements for EIS filing, eliminating the need to submit paper copies to EPA Headquarters, by filing documents online and providing feedback on the process. To participate in the pilot, register at: https://cdx.epa.gov.

EIS No. 20120165, Draft EIS, USACE, FL, Central Florida Phosphate District, Phosphate Mining, To Expand Existing Mines and Create New Phosphate Mines, Issuance of Permits, USACE Section 404 Permit, Charlotte, DeSoto, Hardee, Lee, Menatee, Polk, and Sarasota Counties, FL, Comment Period Ends: 07/16/2012, Contact: John Fellows 813-769-7067

EIS No. 20120166, Draft EIS, BLM, NV, Hollister Underground Mine Project, Transitioning from Underground Exploration Activities to a Full Scale Producing Underground Gold and Silver Mine, Elko County, NV, Comment Period Ends: 07/16/2012, Contact: Janice Stadelman 775-753-0346

EIS No. 20120167, Draft EIS, USFS, OR, Mt. Bachelor Ski Area Improvements Project, Implementation, Bend-Ft. Rock Ranger District, Deschutes National Forest, Deschutes County, OR, Comment Period Ends: 07/16/2012, Contact: Amy Tinderholt 541-383-4708

EIS No. 20120168, Revised Draft EIS, USFS, 00, Lake Tahoe Basin Management Unit, Land and Resource Managment Plan, Updated Forest Plan, Implementation, Alpine, El Dorado, Placer Counties, CA and Douglas and Washoe Counties, AZ, Comment Period Ends: 08/29/2012, Contact: Randy Moore 707-562-900

EIS No. 20120169, Final Supplement, USFS, OR, Invasive Plant Treatments within the Deschutes and Ochoco National Forests and the Crooked River National Grassland, Updated Information on Three New Alternatives, Proposal for Treatment of Invasive Plant Infestation and Protection of Uninfested Areas, Implementation, Several Cos. OR, Review Period Ends: 07/02/2012, Contact: Debra Mafera 541-416-6588

EIS No. 20120170, Final EIS, USFS, MN, Federal Hardrock Mineral Prospecting Permits Project, To Conduct Mineral Exploration Drilling and Geophysical Activities on the Superior National Forest, Issuance of Special Use Permit, Cook, Lake, St. Louis and Koochiching Counties, MIN, Review Period Ends: 07/23/2012, Contact: Peter Taylor 218-626-4368.

EIS No. 20120171, Final EIS, BLM, MN, Adoption—Federal Hardrock Mineral Prospecting Permits Project, To Conduct Mineral Exploration Drilling and Geophysical Activities on the Superior National Forest, Issuance of Prospecting Permits, Cook, Lake, St. Louis and Koochiching Counties, MN, Review Period Ends: 07/23/2012, Contact: Kurt Wadzinski 414-297-4408.

U.S. Department of the Interior's Bureau of Land Management (BLM) has adopted the U.S. Department of Agriculture's Forest Service Final EIS. BLM was a cooperating agency for the above project, recirculation of the FEIS is not necessary under Section 1506.3(3) of the CEQ Regulations.

As a cooperating agency, the Bureau of Land Management will issue a Record of Decision (ROD) that will be available at the conclusion of the FEIS review period but no sooner than 50 days from the beginning of the Forest Service appeal period.

Dated: May 29, 2012.
Cliff Rader,
Director, NEPA Compliance Division, Office of Federal Activities.

[FR Doc. 2012-13356 Filed 5-31-12; 8:45 am]

BILLING CODE 6560-50-P